DEPARTMENT OF AGRICULTURE

Forest Service

Arapaho National Recreation Area Forest Health Project EIS—Arapaho and Roosevelt National Forests and Pawnee National Grassland

AGENCY: Forest Service, USDA.

ACTION: Notice of intent to prepare an environmental impact statement.

SUMMARY: The Forest Service will prepare an environmental impact statement on a proposal to take pre-suppression measures on a mountain pine beetle infestation of stands of lodgepole pine, and to address overall forest health issues in high-risk areas, within the Arapaho National Recreation Area (ANRA), and adjacent to Rocky Mountain National Park, in Grand County, Colorado (Township 2N & 3N, Range 75W & 76W). The purpose of the proposal is to moderate the mountain pine beetle infestation, to reduce fuels buildup, to foster a healthy, diverse forest through vegetation management, and to preserve the outstanding scenic values of the area. If implemented, the Forest Service will improve the overall forest health and condition of the ANRA through forest management activities in the following key areas: (1) Developed recreation sites, (2) Main scenic corridors and viewsheds, (3) Adjacent to private property to complement treatment efforts on private lands, and (4) Other areas adjacent to or within the ANRA in which the condition of forested areas is declining.

DATES: Comments concerning the scope of the analysis should be received on or before July 19, 2002. See SUPPLEMENTARY INFORMATION section for public meeting dates.

ADDRESSES: Send written comments to James S. Bedwell, Forest Supervisor, Arapaho and Roosevelt National Forests and Pawnee National Grassland, 240 West Prospect Road, Fort Collins, CO 80524. Electronic mail may be sent to rcaissie@fs.fed.us. See SUPPLEMENTARY INFORMATION section for additional information about electronic filing and public meeting addresses.

FOR FURTHER INFORMATION CONTACT: Rick Caissie, EIS Team Leader, (970) 494-2715.

SUPPLEMENTARY INFORMATION: The Forest Service proposes to treat vegetation within and adjacent to the Arapaho National Recreation Area (ANRA) to suppress a mountain pine beetle infestation, reduce fuels buildup, and improve the overall forest health of the area. The ANRA is a congressionally designated area on the Sulphur Ranger District of the Arapaho and Roosevelt National Forests and Pawnee National Grassland managed primarily or recreation and public enjoyment. Over 1.5 million people visit the ANRA annually. The area is characterized by 5 major reservoirs surrounded by forested, mountainous terrain and includes twenty-two heavily used developed recreation sites. Much of the ANRA is adjacent to Rocky Mountain Naitonal Park or the Indian Peaks Wilderness. A portion of the ANRA is the Indian Peaks Adjacent Area B Inventoried Roadless Area (IRA), and, although no permanent roads are proposed to be constructed within the IRA some of the vegetation treatments are proposed for the IRA.

The forested land base within the ANRA is dominated by lodgepole pine. A key component of managing the ANRA is retention of mature forest vegetation for scenic and aesthetic values. Over the last several years Grand County has sustained heavy lodgepole pine mortality in mature forested areas due to an epidemic mountain pine beetle population. One of the epicenters of the epidemic is the ANEA and adjacent private lands. Mortality within lodgepole pine stands is likely to continue if pre-suppression activities do not take place. The resulting loss of forest cover will adversely affect public recreation and enjoyment within the ANRA. Additionally, both standing and down dead trees contribute to fuel accumulation and increase the potential for wildfire.

Many private landowners have expressed concern about the beetle infestation. In efforts to suppress the beetle infestation some of these landowners have treated lodgepole stands on their properties, through logging activities, and have requested that the Forest Service treat adjacent NFS lands to suppress the insect population and reduce the fuels hazard.

The beetle infestation is widespread in the ANRA, leading to poor health and condition of forested areas. There is a need to address overall health issues in high-risk areas of the ANRA. The purpose of this project is to foster a healthy, diverse forest through vegetation management, and for critical resource restoration and protection. The results and benefit of such management would:

• Reduce lodgepole pine susceptibility to insect attack.

• Maintain insect populations at endemic levels, rather than epidemic levels.

• Conserve and perpetuate forest vegetation.

• Reduce the heavy accumulation of forest fuels.

• Complement treatment efforts on adjacent private lands.

• Improve overall health, scenic quality, and condition of forested areas.

• Reduce the threat of catastrophic wildfire in high value recreation areas and high population density areas.

Decisions To Be Made

The Forest Service has several decisions to make: Whether to treat the vegetation within the ANRA to suppress the mountain pine beetle and reduce the potential fuels buildup; where within the ANRA to do the treatments; and what treatments would best meet the purpose and accomplish the goals of the project.

The Forest Service proposes to improve overall forest health and condition through forest management activities in the following key areas in and around the ANRA:

• Developed recreation sites.

• Main scenic corridors and viewsheds.

• Adjacent to private property to complement treatment efforts on private lands.

• Other areas adjacent to or within the ANRA in which the condition of forested areas is declining. In some cases temporary right-of-way easements through private lands will be acquired to reach National Forest System lands.

Treatments would be designed to complement recreation, wildlife and scenic resource values, and would help meet objectives to suppress insect and disease outbreaks and reduce woody fuel accumulation. Proposed treatment methods may include:

• Applying approval insecticides to protect healthy trees from insect infestation within developed recreation sites.

• Cutting and removing infested trees, and thinning susceptible stands of lodgepole pine to reduce the ability of beetles to spread, using traditional, ground based logging methods.

• Cutting and removing dead trees, possibly in patch cuts, to reduce heavy fuel accumulations.

• On-site burning of logging-generated slash to reduce fuels and/or to stimulate aspen regeneration where feasible.

• Establishing other native tree species in select areas, such as developed campgrounds, to private long-term resilience to beetle infestations and other insects and diseases.

• Improve both scenic and vegetative diversity by managing for a variety of native tree species.

Responsible Official

Rick D. Cables, Regional Forester, USFS, Region 2—Rock Mountain Region, PO Box 25127, Lakewood, CO 80225; 740 Simms Street, Golden, CO 80401 is the Responsible Official for making the decision. He will documents his decisions and rationale in a Record of Decision.

Preliminary Issues

Five preliminary issues have been identified:

1. Forest Health: The mountain pine beetle population has increased within and adjacent to the ANRA, both on National Forest System lands and on lands under other ownership. There is a possibility that most of the larger, mature lodgepole pine trees within or adjacent to the ANRA will be killed by the mountain pine beetle within the next few years if suppression efforts are not taken. Efforts made to reduce the susceptibility to lodgepole pine trees to mountain pine beetle attack should not ignore other forest health issues, but should also consider: (1) Conserving forest vegetation, (2) increasing age diversity, and (3) increasing species diversity.

2. Fuels/fire hazard: There is a possibility that if action is not taken to reduce the current forest fuels accumulation, and to reduce the rate of fuel accumulations that may result with a mountain pine beetle infestation, that the fire hazard will increase to an unacceptable level. Private property owners feel they cannot create a defensible space around their property without treatment on adjacent NFS lands.

3. The Indian Peaks Adjacent Area B Roadless Area: There is concern that the construction of temporary roads to access timber, as well as the cutting and removal of trees, would compromise the character of the roadless area.

4. Intermix: The portion of the ANRA affected by the mountain pine beetle outbreak is an area of extensive intermixed land ownerships. Access to NFS lands may only be possible across non-federal lands where the Forest Service has no legal access. The beetle infestation crosses ownership boundaries, and treatments may have to cross boundaries to be effective.

5. The Analysis Area is adjacent or close to Rocky Mountain National Park (RNMP), the Indian Peaks Wilderness, the Never Summer Wilderness and the Bowen Gulch Protection Area: There is concern that efforts made to suppress the mountain pine beetle infestation within the analysis area may detrimentally affect the characteristics that were recognized when Congress set these areas aside, such as adverse effects on the scenery of the ANRA, which serves as foreground to RMNP.

Public Involvement, Rationale, and Public Meetings

The public is encouraged to take part in the process and is encouraged to visit with Forest Service officials at any time during the analysis and prior to the decision. The Forest Service will be seeking information, comments and assistance from Federal, State and local agencies and other individuals or organizations who may be interested in, or affected by, the proposed action.

While public participation in this analysis is welcome at any time, comments received within 30 days of the publication of this notice will be especially useful in the preparation of the Draft EIS. Public meetings associated with the project will be held to gain a better understanding of public issues and concerns. These meetings will be held in Grand Lake, Colorado on June 27, 2002 from 6-8 p.m. at the Grand Lake Town Hall; and at the Shadow Mountain Work Center 3 miles south of Grand Lake on July 13 from 10-3 p.m. (field trip/site visit).

Information from the meetings will be used in preparation of the draft and final EIS. The scoping process will include identifying: Potential issues, significant issues to be analyzed in depth, alternatives to the proposed action, and potential environmental effects of the proposal and alternatives.

Electronic Access and Filing Addresses

Comments may be sent by electronic mail (e-mail) to rcaissie@fs.fed.us. Please reference the ANRA Forest Health Project on the subject line. Also, include your name and mailing address with your comments so documents pertaining to this project may be mailed to you.

Estimated Dates for Filing

The Draft EIS is expected to be filed with the Environmental Protection Agency (EPA) and to be available for public review by November 2002. At that time EPA will publish a Notice of Availability of the draft EIS in the Federal Register. The comment period on the draft EIS will be 45 days from the date the EPA publishes the Notice of Availability in the Federal Register. It is very important that those interested in the management of this area participate at that time.

The final EIS is scheduled to be completed by March 2003. In the final EIS, the Forest Service is required to respond to comments and responses received during the comment period that pertain to the environmental consequences discussed in the draft EIS and applicable laws, regulations, and policies considered in making a decision regarding the proposal.

The Reviewers Obligation To Comment

The Forest Service believes it is important to give reviewers notice at this early stage processes required due to several court rulings related to public participation in the environmental review process. First, reviewers of draft environmental impact statements must structure their participation in the environmental review of the proposal so that it is meaningful and alerts an agency to the reviewer's position and contentions. (Vermont Yankee Nuclear Power Corp. v. NRDC, 435 U.S. 519, 533 (1978).) Also, environmental objections that could be raised at the draft environmental impact statement may be waived or dismissed by the courts. (Wisconsin Heritages, Inc. v. Harris, 490 F. Supp. 1334, 1338 (E.D. Wis. 1980).) Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

James S. Bedwell,
Forest Supervisor, Arapaho-Roosevelt National Forests and Pawnee National Grassland.

[FR Doc. 02-15471 Filed 6-18-02; 8:45 am]

BILLING CODE 3410-BT-M